ENVIRONMENTAL PROTECTION AGENCY

[EPA-R05-SFUND-2024-0439; FRL 12259-01-R5]

Request for Public Comment on Settlement Agreement for Licking Chemical Spill Site, Licking County, Ohio

AGENCY: Environmental Protection Agency (EPA).

ACTION: Notice; request for public comment.

SUMMARY: In accordance with the Comprehensive Environmental Response, Compensation, and Liability Act of 1980, as amended (“CERCLA”), notice is hereby given by the U.S. Environmental Protection Agency (“EPA”), Region 5, of a proposed administrative settlement for recovery of past response costs concerning the Licking Chemical Spill Site (Site) in Licking County, Ohio with William H. Trucking, LLC, as the Settling Party and Respondent.

DATES: Comments must be received on or before January 16, 2025.

ADDRESSES: You may send comments, identified by Docket ID No. EPA-R05-SFUND-2024-0439, by the following method:

• Federal eRulemaking Portal: https://www.regulations.gov/ (our preferred method). Follow the online instructions for submitting comments.

Instructions: All submissions received must include the Docket ID No. for this rulemaking. Comments received may be posted without change to https://www.regulations.gov/, including any personal information provided. For detailed instructions on sending comments and additional information on the rulemaking process, see the “Public Participation” heading of the SUPPLEMENTARY INFORMATION section of this document.

FOR FURTHER INFORMATION CONTACT: Don Schwer, Enforcement Investigator, Superfund & Emergency Management Division, Region 5, EPA, 77 West Jackson Blvd. (SE-5J); telephone number: 312-353-8752; email address: schwer.don@epa.gov.

SUPPLEMENTARY INFORMATION: The settlement requires the Respondent to pay $300,000 in past response costs. The settlement includes a covenant not to sue pursuant to sections 107(a) of CERCLA, 42 U.S.C. 9607(a), relating to the Site, subject to limited reservations, and protection from contribution actions or claims as provided by section 113(f)(2) of CERCLA, 42 U.S.C. 9613(f)(2). For thirty (30) days following the date of publication of this notice, EPA will receive written comments relating to this settlement. EPA will consider all comments received and may modify or withdraw its consent to the settlement if comments received disclose facts or considerations that indicate that the proposed settlement is inappropriate, improper, or inadequate. EPA's response to any comments received will be available for public inspection at https://response.epa.gov/LickingChemicalSpill.

A. Written Comments

Submit your comments, identified by Docket ID No. EPA-R05-SFUND-2024-0439, at https://www.regulations.gov (our preferred method), or the other methods identified in the ADDRESSES section. Once submitted, comments cannot be edited or removed from the docket. The EPA may publish any comment received to its public docket. Do not submit to EPA's docket at https://www.regulations.gov any information you consider to be Confidential Business Information (CBI), Proprietary Business Information (PBI), or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). Please visit https://www.epa.gov/dockets/commenting-epa-dockets for additional submission methods; the full EPA public comment policy; information about CBI, PBI, or multimedia submissions; and general guidance on making effective comments.

Douglas Ballotti,
Director, Superfund & Emergency Management Division, Region 5.

[FR Doc. 2024-29663 Filed 12-16-24; 8:45 am]

BILLING CODE 6560-50-P